DEPARTMENT OF ENERGY

Federal Energy Regulatory Commission

[Docket No. CP01-1-001]

Colorado Interstate Gas Company; Notice of Amendment

May 3, 2002.

Take notice that on April 29, 2002, Colorado Interstate Gas Company (CIG), P.O. Box 1087, Colorado Springs, Colorado 80944, filed in Docket No. CP01-1-001, a request to modify its variance request filed on April 19, 2002 to a Petition to Amend Order issued on May 16, 2001, all as more fully set forth in the application which is on file with the Commission and open to public inspection. Copies of this filing are on file with the Commission and are available for public inspection. This filing may also be viewed on the web at http://www.ferc.gov using the “RIMS” link, select “Docket #” and follow the instructions (call 202-208-2222 for assistance).

CIG states that on October 2, 2000, it filed an application in Docket No. CP01-1-000 for authorization, pursuant to Section 7(b) of the Natural Gas Act (NGA), to abandon its Keyes Sand Reservoir at its Boehm Storage Field in southwest Kansas and for a certificate of public convenience and necessity, pursuant to Section 7(c) of the NGA, to construct and operate: (a) facilities to increase the deliverability of its Fort Morgan Storage Field in northeastern Colorado; and (b) pipeline looping and compression facilities to increase the capacity of its system south of its Cheyenne Compressor Station in Weld County, Colorado. On May 16, 2001, the Commission issued its Order Issuing Certificate and Approving Abandonment. As to the abandonment activity and temporary facilities set forth in ordering paragraph (A) of the May 16, 2001 Order, CIG states that it has not yet undertaken these activities.

With this amendment, CIG states that it has determined that the depletion of the Keyes Sand Reservoir can be more efficiently accomplished by modifying the original required facilities. CIG states that it now proposes to amend its certificate by: (1) Installing approximately 3,981 feet of 4” O.D. and 6” O.D. pipeline (Line No. 89F44) connecting the existing Keyes Sand Well Nos. 23, 26, 34 and 35 to the temporary compression and treatment plant. According to CIG, this would isolate its ability, through the dedication of one line, to deplete the reservoir without affecting the ability of the existing line to be used for storage related services; (2) installing an approximate 600 horsepower leased compressor, hydrogen sulfide treatment, and appurtenant facilities, all within a 250 foot by 350 foot plant yard and located immediately adjacent to the existing Boehm Central Dehydration Plant. According to CIG, this will reduce the area to be disturbed by the temporary facilities; (3) converting Keyes Sand Well Nos. 17, 36 and 47 to “G” Sand injection/withdrawal wells; and (4) converting Keyes Sand Well Nos. 14, 18, 21, 25 and 31 to Keyes Sand observation wells for improved monitoring of the reservoir.

Any questions concerning this application may be directed to Robert T. Tomlinson, Director, Regulatory Affairs Department, Colorado Interstate Gas Company, P.O. Box 1087, Colorado Springs, Colorado 80944, at (719) 520-3788 or fax (719) 520-4318.

There are two ways to become involved in the Commission's review of this project. First, any person wishing to obtain legal status by becoming a party to the proceedings for this project should, on or before May 24, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-11755 Filed 5-9-02; 8:45 am]

BILLING CODE 6717-01-P